FEDERAL COMMUNICATIONS COMMISSION

[Report No. 2468]

Petition for Reconsideration of Action in Rulemaking Proceeding

February 27, 2001.

Petition for Reconsideration have been filed in the Commission's rulemaking proceeding listed in this Public Notice and published pursuant to 47 CFR Section 1.429(e). The full text of this document is available for viewing and copying in Room CY-A257, 445 12th Street, SW., Washington, DC., or may be purchased from the Commission's copy contractor, ITS, Inc. (202) 857-3800. Oppositions to this petition must be filed by March 22, 2001. See Section 1.4(b)(1) of the Commission's rules (47 CFR 1.4(b)(1)). Replies to an opposition must be filed within 10 days after the time for filing oppositions have expired.

Subject: Amendment of Part 2 of the Commission's Rules to Allocate Spectrum Below 3 GHz For Mobile and Fixed Services to Support the Introduction of New Advanced Wireless Services, including Third Generation Wireless Systems (ET Docket No. 00-258, RM-9920, RM-9911).

Petition for Rulemaking of the Cellular Telecommunications Industry Association Concerning Implementation of WRC-2000: Review of Spectrum and Regulatory Requirements for IMT-2000.

Amendment of the U.S. Table of Frequency Allocations to Designate the 2500-2520/2670-2690 MHz Frequency Bands for the Mobile Satellite Service.

Number of Petitions filed: 1.

Federal Communications Commission.
Magalie Roman Salas,
Secretary.

[FR Doc. 01-5490 Filed 3-6-01; 8:45 am]

BILLING CODE 6712-01-M